FEDERAL COMMUNICATIONS COMMISSION

[Report No. AUC-05-60-C; (Auction No. 60); DA 05-1498]

Auction of Lower 700 MHz Band Licenses Scheduled for July 20, 2005; Revised Upload Instructions for FCC Form 175 Ownership Disclosure Data

AGENCY: Federal Communications Commission.

ACTION: Notice.

SUMMARY: This document announces revised procedures for uploading ownership disclosure data in the Integrated Spectrum Auction System (ISAS) for Auction No. 60.

DATES: Auction No. 60 is scheduled to begin on July 20, 2005.

FOR FURTHER INFORMATION CONTACT: FCC Auctions Technical Support Hotline at (877) 480-3201, option nine; (202) 414-1250; or (202) 414-1255 (TTY) for any questions regarding the instructions for uploading ownership data. The FCC Auctions Technical Support Hotline hours of service are 8 a.m.-6 p.m. ET, Monday through Friday.

SUPPLEMENTARY INFORMATION: This is a summary of the Auction No. 60 Revised Instructions Public Notice released on May 24, 2005. The complete text of the Auction No. 60 Revised Instructions Public Notice, as well as related Commission documents, is available for public inspection and copying during regular business hours at the FCC Reference Center, Portals II, 445 12th Street, SW., Room CY-A257, Washington, DC 20554. The Auction No. 60 Revised Instructions Public Notice and related Commission documents may also be purchased from the Commission's duplicating contractor, Best Copy and Printing, Inc. (BCPI), Portals II, 445 12th Street, SW., Room CY-B402, Washington, DC 20554, telephone 202-488-5300, facsimile 202-488-5563, or you may contact BCPI at its Web site: http://www.BCPIWEB.com. The Auction No. 60 Revised Instructions Public Notice and related documents are also available on the Internet at the Commission's Web site: http://wireless.fcc.gov/auctions/60/.

1. On March 22, 2005, the Wireless Telecommunications Bureau (Bureau) released a public notice announcing the procedures and minimum opening bid amounts for the upcoming auction of licenses in the Lower 700 MHz band C block (710-716/740-746 MHz) scheduled for July 20, 2005 (Auction No. 60). Attachment D to the Auction No. 60 Procedures Public Notice, 70 FR 25045, May 12, 2005, provided instructions for electronic filing and review of the FCC Form 175, and Section B.4.e. of Attachment D provided detailed instructions for uploading a text file of ownership disclosure data in the Integrated Spectrum Auction System (ISAS).

2. The instructions for uploading ownership data in a text file have been modified due to system enhancements. New instructions are provided at http://wireless.fcc.gov/auctions/ownership-upload. Prospective applicants should not use the instructions that are attached to the Auction No. 60 Procedures Public Notice.

Federal Communications Commission.
Gary D. Michaels,
Deputy Chief, Auctions and Spectrum Access Division, WTB.

[FR Doc. 05-10977 Filed 5-31-05; 8:45 am]

BILLING CODE 6712-01-P